DEPARTMENT OF THE INTERIOR

National Park Service

[NPS-PWR-KAHO-15695; PPPWKAHOS0, PPMPSPD1Z.S00000]

Amendment of Na Hoa Pili O Kaloko-Honokōhau National Historical Park Advisory Commission Meeting Date

AGENCY: National Park Service, Interior.

ACTION: Notice of Amendment of Meeting Date.

SUMMARY: In accordance with the Federal Advisory Committee Act (5 U.S.C. Appendix 1-16), notice is hereby given of the change in date for the September 5, 2014, meeting of the Na Hoa Pili O Kaloko-Honokōhau National Historical Park Advisory Commission.

DATES: The meeting date originally published on January 30, 2014, in the Federal Register, 79 FR 4956, has been changed. The new meeting date will be Friday, August 22, 2014, at 9:30 a.m. (Hawaii Standard Time).

ADDRESSES: The meeting will be held at the Kaloko-Honokōhau National Historical Park Halau at the southern end of the park, located north of Honokōhau Harbor with access through the Honokōhau pedestrian entrance. Parking is available at Honokōhau Harbor.

FOR FURTHER INFORMATION CONTACT: Jeff Zimpfer, Environmental Protection Specialist, Kaloko-Honokōhau National Historical Park, 73-4786 Kanalani St., #14, Kailua Kona, HI 96740, by telephone 808-329-6881 x1500, or via email jeff_zimpfer@nps.gov.

SUPPLEMENTARY INFORMATION: Meetings are open to the public. Interested persons may make oral/written presentations to the Commission or file written statements. Such requests should be made to the Superintendent at least seven days prior to the meetings. Before including your address, telephone number, email address, or other personal identifying information in your comment, you should be aware that your entire comment—including your personal identifying information—may be made publicly available at any time. While you may ask us in your comment to withhold your personal identifying information from public review, we cannot guarantee that we will be able to do so.

Dated: May 19, 2014.
Alma Ripps,
Chief, Office of Policy.

[FR Doc. 2014-12305 Filed 5-27-14; 8:45 am]

BILLING CODE 4312-FP-P